DEPARTMENT OF COMMERCE

International Trade Administration

Notice of Scope Rulings

AGENCY: Import Administration, International Trade Administration, Department of Commerce.

DATES: Effective Date: June 1, 2012.

SUMMARY: The Department of Commerce (“Department”) hereby publishes a list of scope rulings completed between July 1, 2011, and September 30, 2011. In conjunction with this list, the Department is also publishing a list of requests for scope rulings and anticircumvention determinations pending as of September 30, 2011. We intend to publish future lists after the close of the next calendar quarter.

FOR FURTHER INFORMATION CONTACT: Julia Hancock, AD/CVD Operations, China/NME Group, Import Administration, International Trade Administration, U.S. Department of Commerce, 14th Street and Constitution Avenue NW., Washington, DC 20230; telephone: 202-482-1394.

SUPPLEMENTARY INFORMATION:

Background

The Department's regulations provide that the Secretary will publish in the Federal Register a list of scope rulings on a quarterly basis. See 19 CFR 351.225(o). Our most recent notification of scope rulings was published on December X, 2011. See Notice of Scope Rulings, 77 FR 9893 (February 21, 2012). This current notice covers all scope rulings and anticircumvention determinations completed by Import Administration between July 1, 2011, and September 30, 2011, inclusive, and it also lists any scope or anticircumvention inquiries pending as of September 30, 2011. As described below, subsequent lists will follow after the close of each calendar quarter.

Scope Rulings Completed Between July 1, 2011, and September 30, 2011:

Italy

A-475-822: Stainless Steel Plate in Coils From Italy

Requestor: AAVID Thermalloy LLC. (“AAVID”); 24 steel clips imported by AAVID are not within the scope of the antidumping duty order; July 12, 2011.

People's Republic of China

A-570-928: Uncovered Innerspring Units From the People's Republic of China

Requestor: No Boundaries LLC; fabric encased upholstery coil units are within the scope of the antidumping duty order; July 15, 2011.

A-570-891: Hand Trucks From the People's Republic of China

Requestor: WelCom Products; the MC2 Magna Cart and MCI Magna Cart are not within the scope of the antidumping duty order; the MCK Magna Cart is within the scope of the antidumping duty order; September 6, 2011.

A-570-504: Petroleum Wax Candles From the People's Republic of China

Requestor: Trade Associates Group, Ltd.; its figurine candles are not within the scope of the antidumping duty order, while certain of its other candles are within the scope of the antidumping duty order. August 5, 2011.

A-570-504: Petroleum Wax Candles From the People's Republic of China

Requestor: Candym Enterprises, Ltd.; its figurine candles are not within the scope of the antidumping duty order, while certain of its other candles are within the scope of the antidumping duty order. August 5, 2011.

A-570-504: Petroleum Wax Candles From the People's Republic of China

Requestor: Accent Imports; its figurine candles are not within the scope of the antidumping duty order, while certain of its other candles are within the scope of the antidumping duty order. August 5, 2011.

A-570-504: Petroleum Wax Candles From the People's Republic of China

Requestor: Sourcing International, LLC; certain of its candles are within the scope of the antidumping duty order. August 5, 2011.

A-570-866: Folding Gift Boxes From the People's Republic of China

Requestor: Flexo Craft Prints Inc.; certain of its gift boxes are within the scope of the antidumping duty order; July 6, 2011.

A-570-890: Wooden Bedroom Furniture From the People's Republic of China

Requestor: Ashley Furniture Industries Inc.; urethane post base is not within the scope of the antidumping duty order; August 31, 2011.

A-570-951: Certain Woven Electric Blankets From the People's Republic of China

Requestor: HoMedics Inc.; knitted electric heating blanket is not within the scope of the antidumping duty order; August 15, 2011.

A-570-952/C-570-953: Narrow Woven Ribbons With Woven Selvedge From the People's Republic of China

Requestor: Osborne & Little, Inc.; 18 trimmings are within the scope of the antidumping duty order; and two trimmings are not within the scope of the antidumping duty order; September 6, 2011.

A-570-601: Tapered Roller Bearings From the People's Republic of China

Requestor: DF Machinery International, Inc.; its agricultural hub units are within the scope of the antidumping duty order; August 2, 2011.

Multiple Countries

None.

Anticircumvention Determinations Completed Between July 1, 2011, and September 30, 2011:

A-570-849: Certain Cut-to-Length Carbon Steel From the People's Republic of China

Requestor: ArcelorMittal USA, Inc.; Nucor Corporation; SSAB N.A.D., Evraz Claymont Steel and Evraz Oregon Steel Mills; certain cut-to-length carbon steel plate from the PRC that contains a small level of boron, regardless of producer, is circumventing the antidumping duty order; August 17, 2011.

A-570-894: Certain Tissue Paper Products From the People's Republic of China

Requestor: Seaman Paper Company of Massachusetts, Inc.; imports of tissue paper products produced by Max Fortune (Vietnam) Paper Products Company Limited in the Socialist Republic of Vietnam are circumventing the antidumping duty order; August 5, 2011.

Scope Inquiries Terminated Between July 1, 2011, and September 30, 2011:

None.

Anticircumvention Inquiries Terminated Between July 1, 2011, and September 30, 2011:

None.

Scope Inquiries Pending as of September 30, 2011:

People's Republic of China

A-570-506: Porcelain-On-Steel Cooking Ware From the People's Republic of China

Requestor: The Coleman Company, Inc.; whether certain components of its stockpot cooker set (i.e., plastic locking lid and steel cooking base) are within the scope of the antidumping duty order; requested June 17, 2011; initiated September 27, 2011.

A-570-918: Steel Wire Garment Hangers From the People's Republic of China

Requestor: Robert H. Ham Associates Ltd.; whether certain retail display hangers are within the scope of the antidumping duty order on steel wire garment hangers; requested July 21, 2011; initiated October 3, 2011.

A-570-831: Fresh Garlic From the People's Republic of China

Requestor: General Mills, Inc.; whether minced garlic is within the scope of the antidumping duty order; requested April 13, 2011.

A-570-864: Pure Magnesium in Granular Form From the People's Republic of China

Requestor: ESM; whether U.S.-origin pure magnesium exported to the PRC for atomization and re-exported to the United States is within the scope of the order; requested February 11, 2011; initiated May 2, 2011.

A-570-864: Pure Magnesium in Granular Form From the People's Republic of China

Requestor: US Magnesium LLC; whether pure magnesium feedstock exported from the PRC to Mexico and then processed into granular magnesium before exportation to the United States is within the scope of the order; requested April 29, 2011; initiated July 5, 2011.

A-570-967: Aluminum Extrusions From the People's Republic of China

Requestor: A.O. Smith Corporation; whether water heater anodes are within the scope of the antidumping duty order; requested June 14, 2011.

A-570-967/C-570-968: Aluminum Extrusions From the People's Republic of China

Requestor: American Fence Manufacturing Company LLC; whether fence sections, posts and gates are within the scope of the antidumping duty and countervailing duty orders; requested June 15, 2011.

A-570-967/C-570-968: Aluminum Extrusions From the People's Republic of China

Requestor: Endura Products; whether door thresholds containing aluminum extrusions imported from the PRC are within the scope of the antidumping duty and countervailing duty orders; requested: June 2, 2011.

A-570-967/C-570-968: Aluminum Extrusions From the People's Republic of China

Requestor: Origin Point Brands; whether imported aluminum fencing systems are within the scope of the antidumping duty and countervailing duty orders; requested June 27, 2011.

A-570-920/C-570-921: Lightweight Thermal Paper From the People's Republic of China

Requestor: Paper Resources, LLC.; whether certain lightweight thermal paper (“LWTP”) converted into smaller LWTP rolls in the PRC, from jumbo LWTP rolls produced in certain third countries, is within the scope of the antidumping duty and countervailing duty orders; requested February 24, 2011; initiated April 4, 2011.

Mexico

A-201-830: Carbon and Certain Alloy Steel Wire Rod From Mexico

Requestor: Nucor Corporation and Cascade Steel Rolling Mills, Inc.; whether wire rod with an actual diameter between 4.75 and 5.00 millimeters is within the scope of the antidumping order; requested 2/14/2011; initiated May 31, 2011.

Multiple Countries

A-201-837/A-570-954/C-570-955: Magnesia Carbon Bricks From Mexico and the People's Republic of China

Requestor: Fedmet Resources Corporation; whether its magnesia alumina carbon bricks are within the scope of the antidumping duty and countervailing duty orders; initiated September 26, 2011.

A-570-958/C-570-959/A-560-823/C-560-824: Coated Paper From the People's Republic of China and Indonesia

Requestor: Gold East Paper (Jiangsu) Co., Ltd. and its subsidiaries, Pindo Deli Pulp and Paper Mills, PT. Indah Kiat Pulp & Paper Tbk, and Paper Max, Ltd.; whether certain packaging paperboard products and certain playing card products are within the scope of the antidumping and countervailing duty orders; requested June 2, 2011.

A-533-838/C-533-839/A-570-892: Carbazole Violet Pigment 23 From India and the People's Republic of China

Requestor: Nation Ford Chemical Co., and Sun Chemical Corp.; whether finished carbazole violet pigment exported from Japan is within the scope of the antidumping duty and countervailing duty orders; requested February 23, 2010; preliminary ruling May 6, 2011.

Anticircumvention Rulings Pending as of September 30, 2011:

A-570-863: Honey From the People's Republic of China

Requestor: American Honey Producers Association and the Sioux Honey Association; whether honey when blended with rice syrup is circumventing the antidumping duty order; requested August 12, 2011.

A-570-916/C-570-917: Laminated Woven Sacks From the People's Republic of China

Requestor: Coating Excellence International, LLC and Polytex Fibers Corporation; whether laminated woven sacks that are printed with two ink colors, but have the appearance of three or more colors in register, are circumventing the antidumping and countervailing duty orders; requested January 26, 2011; initiated April 22, 2011.

A-570-836: Glycine From the People's Republic of China

Requestor: Geo Specialty Chemicals, Inc. and Chattem Chemicals, Inc.; whether glycine from the PRC, when processed and re-packaged in India and exported as Indian-origin glycine, is circumventing the antidumping duty order; requested December 18, 2009; initiated October 22, 2010.

A-570-929: Small Diameter Graphite Electrodes From the People's Republic of China

Requestor: SGL Carbon LLC and Superior Graphite Co.; whether unfinished small diameter graphite electrodes produced in the PRC and completed and assembled in the United Kingdom are circumventing the antidumping duty order; requested November 30, 2010; initiated February 17, 2011.

A-570-894: Certain Tissue Paper Products From the People's Republic of China

Requestor: Seaman Paper Company of Massachusetts, Inc.; whether certain imports of tissue paper from the Socialist Republic of Vietnam are circumventing the antidumping duty order through means of third country assembly or completion; requested February 18, 2010; initiated March 29, 2010; preliminary determination published April 6, 2011.

A-570-965/C-570-966: Drill Pipe From the People's Republic of China

Requestor: VAM Drilling U.S.A., Texas Steel Conversion Inc. and Rotary Drilling Tools; whether unfinished pipe and tool joints produced in PRC and finished in UAE are circumventing the antidumping and countervailing duty orders; requested June 14, 2011; initiated August 5, 2011.

A-570-918: Steel Wire Garment Hangers From the People's Republic of China

Requestor: M&B Metal Products Inc.; whether certain imports of steel wire garment hangers from the Socialist Republic of Vietnam are circumventing the antidumping duty order through means of third country assembly or completion of merchandise imported from the PRC; requested May 5, 2010; initiated July 22, 2010; preliminary determination published May 10, 2011.

Russia

A-821-807: Ferrovanadium and Nitrided Vanadium From Russia

Requestor: AMG Vanadium, Inc.; whether vanadium pentoxide imports from Russia that are converted into ferrovanadium in the United States are circumventing the antidumping duty order; requested February 25, 2011; initiated May 2, 2011.

Interested parties are invited to comment on the completeness of this list of pending scope and anticircumvention inquiries. Any comments should be submitted to the Deputy Assistant Secretary for AD/CVD Operations, Import Administration, International Trade Administration, 14th Street and Constitution Avenue NW., APO/Dockets Unit, Room 1870, Washington, DC 20230.

This notice is published in accordance with 19 CFR 351.225(o).

Dated: April 2, 2012.
Edward C. Yang,
Acting Deputy Assistant Secretary for Antidumping and Countervailing Duty Operations.

[FR Doc. 2012-13237 Filed 5-31-12; 8:45 am]

BILLING CODE 3510-DS-P